NUCLEAR REGULATORY COMMISSION

[Docket No. 52-007]

Exelon Generating Company, LLC; Notice of Availability of the Draft Environmental Impact Statement for an Early Site Permit (ESP) at the Exelon ESP Site and Associated Public Meeting

Notice is hereby given that the U.S. Nuclear Regulatory Commission (NRC, the Commission) has published NUREG-1815, “Environmental Impact Statement for an Early Site Permit (ESP) at the Exelon ESP Site: Draft Report for Comment.” The site is located near the town of Clinton in DeWitt County, Illinois. The application for the ESP was submitted by letter dated September 25, 2003, pursuant to Title 10 Code of the Federal Regulations Part 52 (10 CFR part 52). The application included a site redress plan in accordance with 10 CFR 52.17(c) and 52.25. If the site redress plan is incorporated in an approved ESP, then the applicant may carry out certain site preparation work and preliminary construction activities. A notice of receipt and availability of the application, which included the environmental report (ER), was published in the Federal Register on October 24, 2003 (68 FR 61020). A notice of acceptance for docketing of the application for the ESP was published in the Federal Register on October 30, 2003 (68 FR 61835). A notice of intent to prepare an environmental impact statement and to conduct the scoping process was published in the Federal Register on November 25, 2003 (68 FR 66130).

The purpose of this notice is to inform the public that NUREG-1815, “Environmental Impact Statement for an Early Site Permit (ESP) at the Exelon ESP Site: Draft Report for Comment,” is available for public inspection in the NRC Public Document Room (PDR) located at One White Flint North, 11555 Rockville Pike (first floor), Rockville, Maryland 20852, or from the Publicly Available Records (PARS) component of NRC's Agencywide Documents Access and Management System (ADAMS), and will also be placed directly on the NRC Web site at http://www.nrc.gov. ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Vespasian Warner Public Library, located at 310 North Quincy Street, Clinton, Illinois 61727, has agreed to make the DEIS available for public inspection.

The NRC staff will hold a public meeting to present an overview of the DEIS and to accept public comments on the document. The public meeting will be held at the Vespasian Warner Public Library, located at 310 North Quincy Street, Clinton, Illinois 61727, on Tuesday, April 19, 2005. The meeting will convene at 7 p.m. and will continue until 10 p.m., as necessary. The meeting will be transcribed and will include: (1) A presentation of the contents of the DEIS, and (2) the opportunity for interested government agencies, organizations, and individuals to provide comments on the draft report. Additionally, the NRC staff will host informal discussions one hour before the start of the meeting at the library. No formal comments on the DEIS will be accepted during the informal discussions. To be considered, comments must be provided either at the transcribed public meeting or in writing. Persons may register to attend or present oral comments at the meeting by contacting Ms. Jennifer Davis, by telephone at 1-800-368-5642, extension 3835, or by Internet to the NRC at ClintonEIS@nrc.gov no later than April 13, 2005. Members of the public may also register to speak at the meeting within 15 minutes of the start of the meeting. Individual oral comments may be limited by the time available, depending on the number of persons who register. Members of the public who have not registered may also have an opportunity to speak, if time permits. Ms. Davis will need to be contacted no later than April 13, 2005, if special equipment or accommodations are needed to attend or present information at the public meeting, so that the NRC staff can determine whether the request can be accommodated.

Members of the public may send written comments on the DEIS concerning the Exelon ESP application to the Chief, Rules and Directives Branch, Division of Administrative Services, Office of Administration, Mailstop T-6D59, U.S. Nuclear Regulatory Commission, Washington, DC 20555-0001, and should cite the publication date and page number of this Federal Register Notice. Comments may also be delivered to Room T-6D59, Two White Flint North, 11545 Rockville Pike, Rockville, Maryland 20852, from 7:30 a.m. to 4:15 p.m. during Federal workdays. To be considered, written comments should be postmarked by May 25, 2005. Electronic comments may be sent by the Internet to the NRC at ClintonEIS@nrc.gov. Electronic submissions should be sent no later than May 25, 2005. Comments will be available electronically and accessible through the NRC's PERR link at http://www.nrc.gov/reading-rm/adams.html.

FOR FURTHER INFORMATION, CONTACT: Jennifer Davis, License Renewal and Environmental Impacts Program, Division of Regulatory Improvement Programs, U.S. Nuclear Regulatory Commission, Washington, DC, 20555-0001. Ms. Davis may be contacted at the aforementioned telephone number or e-mail address.

Dated at Rockville, Maryland, this 2nd day of March, 2005.
For the Nuclear Regulatory Commission.
Pao-Tsin Kuo,
Program Director, License Renewal and Environmental Impacts Program, Division of Regulatory Improvement Programs, Office of Nuclear Reactor Regulation.

[FR Doc. 05-4669 Filed 3-9-05; 8:45 am]

BILLING CODE 7590-01-P